DEPARTMENT OF COMMERCE

International Trade Administration

[A-580-839]

Certain Polyester Staple Fiber from the Republic of Korea: Partial Rescission of Ninth Antidumping Duty Administrative Review

AGENCY: Import Administration, International Trade Administration, Department of Commerce.

EFFECTIVE DATE: August 19, 2009.

FOR FURTHER INFORMATION CONTACT: Shelly Atkinson or Brandon Farlander, AD/CVD Operations, Office 1, Import Administration, U.S. Department of Commerce, 14th Street and Constitution Avenue, NW, Washington, DC 20230; telephone (202) 482-0116 and (202) 482-0182, respectively.

SUPPLEMENTARY INFORMATION: On May 1, 2009, the Department issued a notice of opportunity to request an administrative review of this order for the period of review (“POR”) May 1, 2008, through April 30, 2009. See Antidumping or Countervailing Duty Order, Finding, or Suspended Investigation; Opportunity To Request Administrative Review, 74 FR 20278 (May 1, 2009). On May 29, 2009, Huvis Corporation (“Huvis”) requested an administrative review of its entries that were subject to the antidumping duty order for this period. On that same date, the Department also received a request from Wellman, Inc., DAK Americas LLC, and Invista, S.a.r.L. (collectively, “the petitioners”) for a review of Huvis and Saehan Industries, Inc. (“Saehan”). On June 24, 2009, the Department published the notice of initiation of this antidumping duty administrative review, covering Huvis and Saehan. See Initiation of Antidumping and Countervailing Duty Administrative Reviews and Requests for Revocation in Part, 74 FR 30052 (June 24, 2009). On July 1, 2009, the petitioners submitted a letter noting that the Department issued a changed circumstances determination on August 20, 2008, and found that Woongjin Chemical Co., Ltd. (“Woongjin”) was the successor-in-interest to Saehan. See Notice of Final Results of Changed Circumstances Antidumping Duty Review: Certain Polyester Staple Fiber from the Republic of Korea, 73 FR 49168 (August 20, 2008). At the same time the petitioners clarified that their review request covered entries by Saehan and its successor Woongjin, as shipments may have been made under either name. See Letter from the Petitioners, to the Secretary of Commerce, entitled, “Polyester Staple Fiber from Korea,” dated July 1, 2009, at 2 and Attachment 1. On July 14, 2009, the petitioners timely withdrew their review request for Saehan and its successor company, Woongjin.

Partial Rescission of Review

Pursuant to 19 CFR 351.213(d)(1), the Secretary will rescind an administrative review, in whole or in part, if the party who requested the review withdraws the request within 90 days of the date of publication of the notice of initiation of the requested review. Because the petitioners withdrew their request for review of Saehan and Woongjin within the 90-day period and no other party requested a review of Saehan's or Woongjin's entries, in accordance with 19 CFR 351.213(d)(1), we are rescinding this review with respect to Saehan and Woongjin.

The Department intends to issue appropriate assessment instructions directly to the U.S. Customs and Border Protection (“CBP”) 15 days after the publication of this notice. The Department will direct CBP to assess antidumping duties at the cash deposit rate in effect on the date of entry for entries of subject merchandise produced and/or exported by Saehan or Woongjin, during the period May 1, 2008, through April 30, 2009.

This notice is published in accordance with section 777(i)(1) of the Tariff Act of 1930, as amended, and 19 CFR 351.213(d)(4).

Dated: August 13, 2009.
John M. Andersen,
Acting Deputy Assistant Secretary for Antidumping and Countervailing Duty Operations.

[FR Doc. E9-19907 Filed 8-18-09; 8:45 am]

BILLING CODE 3510-DS-S